NATIONAL SCIENCE FOUNDATION

Notice of Permit Applications Received Under the Antarctic Conservation Act of 1978

AGENCY: National Science Foundation.

ACTION: Notice.

SUMMARY: The National Science Foundation (NSF) is required to publish a notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by October 28, 2013. This application may be inspected by interested parties at the Permit Office, address below.

ADDRESSES: Comments should be addressed to Permit Office, Room 755, Division of Polar Programs, National Science Foundation, 4201 Wilson Boulevard, Arlington, Virginia 22230.

FOR FURTHER INFORMATION CONTACT: Adrian Dahood, ACA Permit Officer, at the above address or ACApermits@nsf.gov or (703) 292-7149.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

Application Details

Permit Application: 2014-020

1. Applicant Scott Borg, National Science Foundation, Arlington Virginia.

Activity for Which Permit Is Requested

The National Science Foundation funds numerous science projects to be conducted in Antarctica. The Program Officers sometimes need to experience the area where the work is conducted, observe the scientists at work or inspect facilities to help inform funding decisions.

Visits to the ASPAs listed in this application will be limited as operational, scientific conditions and the availability of transportation permit. Visits will take place in conjunction with scientific activities or with maintenance activities undertaken by the contractor (ASC).

Program officers visiting an ASPA will be accompanied by an escort. The escort will be either a scientist or staff hired by the contractor (ASC) who is currently working in the ASPA. The escort will be very familiar with the area and the management plan and will ensure that the requirements contained in the ASPA management plans and the Antarctic Conservation Act are followed.

Location

ASPA 124: Cape Crozier, Ross Island.

Dates

November 1, 2013 to March 31, 2018.

Nadene G. Kennedy,
Polar Coordination Specialist, Division of Polar Programs.

[FR Doc. 2013-23582 Filed 9-26-13; 8:45 am]

BILLING CODE 7555-01-P